DEPARTMENT OF COMMERCE

National Oceanic and Atmospheric Administration

Cangrejos Yacht Club Federal Consistency Appeal

AGENCY: National Oceanic and Atmospheric Administration (NOAA), Department of Commerce.

ACTION: Notice of appeal.

SUMMARY: This announcement provides notice that Cangrejos Yacht Club (CYC), has filed an administrative appeal with the Department of Commerce (Department), requesting that the Secretary override an objection by the Puerto Rico Planning Board (PRPB) to the proposed dredging project in the Boca de Cangrejos Channel in Carolina, Puerto Rico.

ADDRESSES and DATES: You may submit written comments concerning this appeal or requests for a public hearing to NOAA, Office of General Counsel, Oceans and Coasts Section, Attn. Suzanne Bass, 1305 East-West Highway, Room 6111, Silver Spring, MD 20910, or via email to gcos.comments@noaa.gov. Comments or requests for a public hearing must be sent in writing postmarked or emailed no later than April 11, 2014.

SUPPLEMENTARY INFORMATION:

I. Notice of Appeal

On January 2, 2014, Pedro J. Bonilla, representing Cangrejos Yacht Club (CYC), filed notice of an appeal with the Secretary of Commerce (Secretary), pursuant to the Coastal Zone Management Act of 1972 (CZMA), 16 U.S.C. 1451 et seq., and implementing regulations found at 15 CFR Part 930, Subpart H. The appeal is taken from an objection by the Puerto Rico Planning Board (PRPB) to the proposed dredging project in the Boca de Cangrejos Channel in Carolina, Puerto Rico.

Under the CZMA, the Secretary may override the PRPB's objection on grounds that the project is consistent with the objectives or purposes of the CZMA or otherwise necessary in the interest of national security. To make the determination that the proposed activity is “consistent with the objectives or purposes of the CZMA,” the Department must find that: (1) The proposed activity furthers the national interest as articulated in sections 302 or 303 of the CZMA, in a significant or substantial manner; (2) the adverse effects of the proposed activity do not outweigh its contribution to the national interest, when those effects are considered separately or cumulatively; and (3) no reasonable alternative is available that would permit the activity to be conducted in a manner consistent with enforceable policies of the applicable coastal management program. 15 CFR 930.121. Conversely, to make the determination that the proposed activity is “necessary in the interest of national security,” the Secretary must find that a national defense or other national security interest would be significantly impaired were the activity not permitted to go forward as proposed. 15 CFR 930.122. The Secretary may also, to promote efficient use of time and resources, first require the appellant and the State agency to submit briefs and supporting materials relevant only to procedural or jurisdictional issues. 15 CFR 930.127(e)(2).

II. Request for Public and Federal Agency Comments

We encourage the public and interested federal agencies to participate in this appeal by submitting written comments and any relevant materials supporting those comments. All comments received are a part of the public record. All personal identifying information (e.g., name, address, etc.), confidential business information, or otherwise sensitive information submitted voluntarily by the sender will be publicly accessible.

III. Public Hearing Request

You may submit a request for a public hearing using one of the methods specified in the ADDRESSES section of this notice. In your request, explain why you believe a public hearing would be beneficial. If we determine that a public hearing would aid the decisionmaker, a notice announcing the date, time, and location of the public hearing will be published in the Federal Register. The public and federal agency comment period will also be reopened for a ten-day period following the conclusion of the public hearing to allow for additional input.

IV. Public Availability of Appeal Documents

NOAA intends to provide access to publicly available materials and related documents comprising the appeal record on the following Web site: http://coastalmanagement.noaa.gov/consistency/fcappealdecisions.html; and during business hours, at the NOAA, Office of General Counsel in the location specified in the ADDRESSES and DATES section of this notice.

Dated: March 7, 2014.
Jeff Dillen,
Acting Section Chief, Oceans and Coasts Section, NOAA Office of General Counsel.

[Federal Domestic Assistance Catalog No. 11.419 Coastal Zone Management Program Assistance.]

[FR Doc. 2014-05420 Filed 3-11-14; 8:45 am]

BILLING CODE 3510-22-1505-02-P